DEPARTMENT OF AGRICULTURE

Food and Nutrition Service

Agency Information Collection: Proposed Collection; Comment Request; FNS-260, Requisition for Food Coupon Books

AGENCY: Food and Nutrition Service, USDA.

ACTION: Notice.

SUMMARY: In accordance with the Paperwork Reduction Act of 1995, this notice invites the general public and other public agencies to comment on the proposed information collection contained in form FNS-260, Requisition for Food Coupon Books.

DATES: Written comments must be submitted on or before June 15, 2001.

ADDRESSES: Send comments and requests for copies of this information collection to: Jeffrey N. Cohen, Branch Chief, Electronic Benefit Transfer Branch, Benefit Redemption Division, Food and Nutrition Service, U.S. Department of Agriculture, 3101 Park Center Drive, Alexandria, VA 22302. Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

FOR FURTHER INFORMATION CONTACT: Jeffrey N. Cohen, (703) 305-2523.

SUPPLEMENTARY INFORMATION: Title: Requisition for Food Coupon Books.

OMB Number: 0584-0022.

Form Number: FNS-260.

Expiration Date: 09/30/2001.

Type of Request: Revision of a currently approved collection.

Abstract: Section 7(e) of the Food Stamp Act of 1977, as amended, (the Act) (7 U.S.C. 2016(e)) requires the U.S. Department of Agriculture (USDA) to prescribe appropriate procedures for the delivery of food coupon books to coupon issuers. States and local agencies used Form FNS-260, Requisition for Food Coupon Books, to order supplies of coupon books. The forms are completed and submitted in hard copy or electronic format to the appropriate Food and Nutrition Service (FNS) regional office. The hard-copy format is normally used only when the electronic format is unavailable. The regional offices enter the order for coupon books into a database where it is automatically reviewed for conformance with policy for ordering. After the order passes the edit checks, FNS then transmits them electronically to the contractor who ships the coupon books. No coupon books are shipped until a completed order has been received and approved by FNS.

The need to print and order food coupons as the sole benefit delivery instrument for the Food Stamp Program has changed. Many areas of the country have switched to Electronic Benefit Transfer (EBT) Systems and no longer issue food coupons to participating households. This has resulted in a direct reduction in the number of States and local agencies completing and submitting food coupon book orders. However, some areas are still using coupons and we must continue to require these areas to order food coupon books. The Office of Management and Budget's (OMB) approval of this information collection expires on September 30, 2001. We intend to seek an extension of OMB's approval for an additional 3 years.

The number of respondents that must complete and submit food coupon orders is estimated to be 221 annually; a reduction of 779 respondents. It is estimated that respondents will order coupons at least six times annually. It is further estimated that it takes about 30 minutes to complete and transmit the coupon book order. Thus, total annual burden associated with this information collection is estimated to be 663 hours annually (221 x 6 x 30 minutes).

Affected Public: State and local governments.

Estimated Number of Respondents: 221.

Estimated Number of Responses per respondent: 6.

Estimated Time per Response: one half hour.

Estimated Total Annual Burden: 663 hours; a reduction of 2337 hours annually.

Dated: April 5, 2001.
George A. Braley,
Acting Administrator.

[FR Doc. 01-9377 Filed 4-13-01; 8:45 am]

BILLING CODE 3410-30-P